DEPARTMENT OF TRANSPORTATION

Pipeline and Hazardous Materials Safety Administration

[Docket No. PHMSA-04-19854]

Pipeline Safety: Public Meeting on Integrity Management of Gas Distribution Pipelines

AGENCY: Office of Pipeline Safety, Pipeline and Hazardous Materials Safety Administration, DOT.

ACTION: Notice; public meeting.

SUMMARY: The Pipeline and Hazardous Materials Safety Administration (PHMSA) is sponsoring a public meeting on Enhancing Integrity Management of Gas Distribution Pipelines. The meeting will be held on September 21, 2005, in Dallas, Texas. At the meeting, PHMSA will discuss actions that have been underway this year to review the need for integrity management requirements for gas distribution pipelines. The meeting also will provide discussion on the use of Excess Flow Valves in gas distribution safety lines as a technique for mitigating the consequences of service line incidents, and will provide the public an opportunity to give comments.

DATES: The public meeting will be held on Wednesday, September 21, 2005, from 8 a.m. to 4:15 p.m.

ADDRESSES: The meeting is open to all. There is no cost to attend. The meeting will be held at the Westin Park Central Hotel, 12720 Merit Drive, Dallas, TX 75251. The phone number for reservations is 1-972-851-2037 or 1-800-Westin1.

FOR FURTHER INFORMATION CONTACT: Mike Israni, Office of Pipeline Safety, at 202-366-4571; mike.israni@dot.gov, regarding subject matter of this notice. For information regarding meeting logistics please contact Veronica Garrison at 202-366-4996, veronica.garrison@dot.gov.

SUPPLEMENTARY INFORMATION: This meeting follows a previous public meeting on this topic, held in Washington, DC, on December 16, 2004. This meeting will include briefings on the activities of a Distribution Integrity Management Phase 1 effort that is ongoing through 2005. This program involves a review of operating experience, current requirements, and practices. The Distribution Integrity Management Program (DIMP) team will develop information that PHMSA can consider in any subsequent rulemaking effort. The Phase 1 program involves work/study groups comprised of representatives of state pipeline safety regulators, the gas distribution industry, the public, and PHMSA. The preliminary agenda for this meeting includes briefings on the following topics:

• The need for improvement;

• Distinctions among gas distribution pipeline systems;

• Comments from the team of executives (industry, state regulators, and public) providing oversight of the Phase 1 program;

• The plan and process of the Phase 1 program; (including use of EFV as a technique for mitigating the consequences of service line incidents.)

• Major issues and approaches, including preliminary Phase 1 conclusions;

• Issues and cautions that must be considered in developing distribution integrity management requirements; and

• The views of industry and other stakeholders.

Need for Improvement

Pipeline accidents with significant consequences gathered attention in recent years and prompted pipeline safety program changes. Integrity management rules were promulgated for hazardous liquid pipelines (65 FR 75378; December 1, 2000) and for gas transmission pipelines (68 FR 69778; December 15, 2003). In testimony before the Congress on July 20, 2004, the Office of the Inspector General (OIG) reported that the number of incidents reported on distribution systems has consistently exceeded that on transmission systems. Also, the number of fatalities and injuries reported on distribution systems has consistently been much higher than for transmission systems. The prevalence of incidents, particularly those with consequences to people, underscores the need for regulators and stakeholders to pay additional attention to distribution pipeline integrity management. PHMSA agrees that safety issues posed by gas distribution pipelines need to be addressed through appropriate integrity management initiatives.

Differences in Gas Distribution Pipeline Systems

A plan for assuring integrity of gas distribution pipelines must consider the differences between transmission pipeline systems and distribution pipeline systems. Ensuring the integrity of distribution pipeline systems is different from doing so for transmission pipelines because:

• Most pipe in distribution pipeline systems is small diameter and operates at low pressure. Transmission pipelines are generally large diameter and high pressure.

• Distribution pipeline systems are a more complex network, with frequent branching and interconnections. Transmission pipelines generally run for many miles without such connections.

• Distribution pipeline systems include a range of materials, including a significant amount of plastic pipe. Transmission pipelines are generally constructed of steel.

• Distribution pipelines are usually difficult to take out of service for inspection without interrupting gas service to customers. Transmission pipelines often include loop lines and bypasses that allow individual sections of pipe to be removed from service temporarily.

• Distribution pipeline failures tend to occur as leaks. Gas can migrate underground, accumulating in areas remote from the leak so that fires and explosions occur away from the pipeline. Transmission pipelines tend to fail by rupture because of their high operating pressure. The fire and explosions on transmission lines occur on the pipeline.

• Distribution pipeline systems tend to be local, intrastate systems, which state regulators are responsible for regulating. A greater proportion of transmission pipelines are interstate systems, and Federal regulators play a much larger role regulating them.

Developing an Approach to Gas Distribution Integrity Management

Expanding integrity management for distribution systems beyond currently required practices requires a thorough understanding of costs and benefits. Following the previous public meeting, PHMSA has worked with a number of groups comprised of state pipeline regulators, pipeline operators, and representatives of the public to conduct analyses and evaluations in a number of areas that must be considered in developing any distribution integrity management requirements. These meetings were announced by a Federal Register notice on March 29, 2005 (70 FR 15988) and subsequent announcements on a Web site established specifically for this effort. The areas considered include:

• Identifying the principal threats to the integrity of distribution pipelines;

• Identifying requirements and practices that currently exist at the State and Federal levels that support management of these threats to integrity;

• Determining whether current requirements are written effectively to create opportunities and incentives for operators to use existing and developing technologies to support management of the integrity of distribution systems;

• Identifying whether opportunities exist for expedited development of new technologies supporting the assessment of gas distribution systems;

• Understanding practices beyond current requirements that are being used by operators and what the results are;

• Understanding whether there are requirements or approaches used by one or more States which are not included in Federal requirements but which have proven effective in managing the integrity of gas distribution systems; and,

• Identifying whether the opportunity exists to codify currently demonstrated effective integrity management practices in a national consensus standard.

The analyses and evaluations conducted by the work/study groups comprise Phase 1 of the PHMSA plan to develop integrity management requirements. Phase 1 is expected to be completed by the end of 2005. The Phase 1 results will support PHMSA and state regulators in making decisions regarding the nature of requirements that may be needed. Achieving increased integrity of distribution pipeline systems may involve Federal and/or State rulemaking, development of guidance for adoption by States, publication and promotion of best practices or national consensus standards, or some combination of these or other actions. PHMSA will use the results of Phase 1 to develop new requirements as part of Phase 2 of the PHMSA plan, which PHMSA expects to begin in early 2006.

During this meeting, persons involved in the Phase 1 program will share the scope of their ongoing work and their preliminary conclusions with the public. Representatives of various stakeholder groups will also share their perspective with attendees. PHMSA will collect comments and suggestions from members of the public attending this meeting to further inform the Phase 2 efforts to develop appropriate requirements.

Interested parties may find additional information regarding the previous public meeting in the docket (http://dms.dot.gov), then click on Simple Search and type in Docket No. 19854.

Visitors may access the Distribution Integrity Management Web site through the OPS home page (http://ops.dot.gov) by selecting “Integrity Management” and then “Distribution Integrity Management''.

Issued in Washington, DC, on August 22, 2005.
Theodore L. Willke,
Deputy Associate Administrator for Pipeline Safety.

[FR Doc. 05-16966 Filed 8-25-05; 8:45 am]

BILLING CODE 4910-60-P